COMMITTEE FOR PURCHASE FROM PEOPLE WHO ARE BLIND OR SEVERELY DISABLED

Agency Information Collection Activities; Proposed Information Collection; Comment Request

AGENCY: Committee for Purchase From People Who Are Blind or Severely Disabled.

ACTION: Submission for OMB review; comment request.

SUMMARY: The Committee is submitting to the Office of Management and Budget for their review the following collection as required by the Paperwork Reduction Act (44 U.S.C. Chapter 35).

AbilityOne Program Individual Eligibility Evaluation

DATES: Interested persons are invited to submit comments about the collection on or before August 31, 2012. The agency's 60-day notice informing the public of the intent to begin using this form was published in the Federal Register on May 4, 2012 on page 26519-26520.

ADDRESSES: Comments may be submitted, identified by the title of the information collection activity, to the Office of Information and Regulatory Affairs, Attn: Ms. Jasmeet K. Seehra, OMB Desk Officer, by any of the following two methods within 30 days from the date of publication in the Federal Register: (1) By fax to: (202) 395-6974, Attention: Ms. Jasmeet K. Seehra, OMB Desk Office; and (2) Electronically by email to: Jasmeet_K._Seehra@omb.eop.gov.

Requests for copies of documents pertaining to the collection should be addressed to Committee for Purchase From People Who Are Blind or Severely Disabled, Attention: Louis Bartalot, Director of Compliance, Jefferson Plaza 2, Suite 10800, 1421 Jefferson Davis Highway, Arlington, VA 22202-3259 or emailed to lbartalot@abilityone.gov.

SUPPLEMENTARY INFORMATION: The Committee plans to submit a request to OMB that the initial and annual evaluations of competitive employability required by the Committee's regulations (41 CFR 51-4.3) be done on a standardized form. The Committee is requesting a 3-year term of approval for this recordkeeping activity.

Title:. AbilityOne Program Individual Eligibility Evaluation.

OMB Number: 3037-0011.

Agency Number: 3037.

Frequency: At least annually.

Affected Public: Nonprofit agencies serving people who are blind or severely disabled that participate in the AbilityOne Program.

Number of Respondents: 610.

Estimated Time per Respondent: Burden for conducting the evaluations is included in the Committee's recordkeeping requirement under OMB Control number 3037-005. It is estimated that requiring the use of a standardized form will not add to the recordkeeping burden once training is completed and the form adopted. The estimated burden to accomplish the training is estimated at 2 hours per agency.

Total Burden Hours: 1,220.

Total Annual Costs: $36,600.

Barry S. Lineback,
Director, Business Operations.

[FR Doc. 2012-18844 Filed 8-1-12; 8:45 am]

BILLING CODE 6353-01-P